DEPARTMENT OF LABOR

Occupational Safety and Health Administration

[Docket No. OSHA-2018-0005]

Whistleblower Stakeholder Meeting

AGENCY: Occupational Safety and Health Administration (OSHA), Labor.

ACTION: Notice; meeting changes.

SUMMARY: On March 13, 2020, OSHA published a notice announcing a stakeholder meeting on May 12, 2020. This document makes several changes to that notice. The meeting will now be held only via telephone. There will be no in-person participation option, and participants must pre-register for this meeting. If you wish to attend the public meeting, you must register using this link https://www.eventbrite.com/e/whistleblower-stakeholder-meeting-tickets-92898902117 by close of business on May 5, 2020. A call-in number will be sent to you upon registration.

FOR FURTHER INFORMATION CONTACT: For general information: Mr. Anthony Rosa, Deputy Director, OSHA Directorate of Whistleblower Protection Programs, U.S. Department of Labor; telephone: (202) 693-2199; email: osha.dwpp@dol.gov.

Authority and Signature

Loren Sweatt, Principal Deputy Assistant Secretary for Occupational Safety and Health, authorized the preparation of this notice under the authority granted by Secretary's Order 01-2012 (Jan. 18, 2012), 77 FR 3912 (Jan. 25, 2012).

Signed at Washington, DC, on April 9, 2020.
Loren Sweatt,
Principal Deputy Assistant Secretary of Labor for Occupational Safety and Health.

[FR Doc. 2020-07855 Filed 4-13-20; 8:45 am]

BILLING CODE 4510-26-P